FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Data Freight LLC. dba Bright Express International (NVO & OFF), 332 Hindry Avenue, Inglewood, CA 90301, Officers: Edison Chen, Manager (Qualifying Individual), Wei-Nung (Janus) Lin, Member/Manager/CEO, Application Type: QI Change/Trade Name Change.

Lone Star Integrated Distribution, LLC dba H.B. Shipping (NVO & OFF), 16516 Air Center Blvd., Houston, TX 77032, Officer: Albert E. Garcia, President/Manager/Member (Qualifying Individual), Application Type: License Transfer.

NC Freight & Logistics LLC (NVO & OFF), 11604 NW. 51st Terrace, Miami, FL 33178, Officer: Lorenzo J. Colina, Member/Manager (Qualifying Individual), Application Type: New NVO & OFF License.

Pacific Global Logistics, Inc. (NVO & OFF), 1500 Pumphrey Avenue, Auburn, AL 36832, Officers: Seung Woo Han, COO (Qualifying Individual), Kee T. Choi, CEO/President/Secretary, Application Type: QI Change.

Rockin Boxes Global, Inc. (NVO & OFF), 28337 Constellation Road, Valencia, CA 91355, Officers: Omar Cantos, Vice President, (Qualifying Individual), Mie Glenm, Vice President/Treasurer, Application Type: New NVO & OFF License.

The Camelot Company dba Purple Star Line (NVO & OFF), 9865 W. Leland Avenue, Schiller Park, IL 60176, Officers: Scott A. Case, Vice President (Qualifying Individual), Thomas C. Case, President, Application Type: Trade Name Change.

Unit International, Inc. (OFF), 644 Cesery Blvd., #200, Jacksonville, FL 32211, Officers: Jeffrey R. Landa, President (Qualifying Individual), Warren P. Powers, Chairman, Application Type: QI Change.

Dated: May 11, 2012.
Karen V. Gregory,
Secretary.

[FR Doc. 2012-11884 Filed 5-15-12; 8:45 am]

BILLING CODE 6730-01-P